FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 23, 2010.

A. Federal Reserve Bank of Chicago (Colette A. Fried, Assistant Vice President) 230 South LaSalle Street, Chicago, Illinois 60690-1414:

1. Betty J. Bradshaw 2000 Irrevocable Trust dated 10/30/00-Charles M. Shea, Trustee, Chicago, Illinois; to acquire control of First Community Bancshares Corp., Anamosa, Iowa, and thereby indirectly acquire control of First Community Bank, Milton, Wisconsin.

B. Federal Reserve Bank of Dallas (E. Ann Worthy, Vice President) 2200 North Pearl Street, Dallas, Texas 75201-2272:

1. Cecil R. Simmons, individually; and as a member of a group including Leonard P. Simmons, all of San Benito, Texas; Anita Simmons Boswell, Harlingen, Texas, and Michael Scott, Raymondville, Texas (the “Director Group”); Cecil R. Simmons and Juana Simmons, San Benito, Texas; Anita Simmons Boswell, Harlingen, Texas; Sarah Simmons Hays, Evergreen, Colorado; and Dolores Simmons, San Benito, Texas (the “Cecil Simmons Family Group”); and Leonard P. Simmons and Mary Beth Simmons, San Benito, Texas; Delores M. Simmons, San Benito, Texas; Ricardo Leal, Harlingen, Texas; Audrey Simmons Hooks, Austin, Texas; Samuel Simmons and Ernest Nash, III, both of Harlingen, Texas (the “Leonard Simmons Family Group”), each as a group acting in concert to acquire control of First San Benito Bancshares Corporation, and thereby indirectly acquire control of First Community Bank, National Association, both of San Benito, Texas.

2. James William Collins, as trustee of the Vanco Trusts and the Vannie Cook Trusts, the Vanco Trusts, and the Vannie Cook Trusts, all of McAllen, Texas; Rafael G. Garza, Hugo Del Pozzo, Bravo Equity Partners II, L.P., Bravo Equity, LP, and RGG Capital, LLC, all of Fort Worth, Texas; and Jennifer Stone and Tyler Stone, both of Dallas, Texas, together as a group acting in concert, to acquire control of Family Bancorp, Inc., San Antonio, Texas, and thereby indirectly acquire control of San Antonio National Bank, Refugio, Texas.

Board of Governors of the Federal Reserve System, August 3, 2010.
Robert deV. Frierson,
Deputy Secretary of the Board.

[FR Doc. 2010-19437 Filed 8-5-10; 8:45 am]

BILLING CODE 6210-01-S